DEPARTMENT OF ENERGY

Extension of a Currently Approved Information Collection for the Weatherization Assistance Program

AGENCY: U.S. Department of Energy.

ACTION: Notice and request for OMB review and comment.

SUMMARY: The Department of Energy (DOE) has submitted to the Office of Management and Budget (OMB) for clearance, a proposal for collection of information under the provisions of the Paperwork Reduction Act of 1995. The proposed collection will collect information on the status of grantee activities, expenditures, and results, to ensure that program funds are being used appropriately, effectively and expeditiously.

DATES: Comments regarding this collection must be received on or before September 30, 2016. If you anticipate that you will be submitting comments, but find it difficult to do so within the period of time allowed by this notice, please advise the DOE Desk Officer at OMB of your intention to make a submission as soon as possible. The Desk Officer may be telephoned at 202-395-4650.

ADDRESSES: Written comments should be sent to: Attention: Desk Officer for DOE; Office of Information and Regulatory Affairs (OIRA); Office of Management and Budget, New Executive Office Building, 725 17th St. NW., Room 10202; Washington, DC 20503-0009 or by; email at: OIRA_submission@omb.eop.gov.

And to: Christine Askew, EE-5W; U.S. Department of Energy; 1000 Independence Ave., SW.; Washington, DC 20585-1290, Phone: (202)586-8224; Fax: (202) 287-1992; Email: Christine.Askew@ee.doe.gov.

FOR FURTHER INFORMATION CONTACT: Christine Askew, EE-5W, U.S. Department of Energy, 1000 Independence Ave. SW., Washington, DC 20585-1290, Phone: (202)586-8224, Fax: (202) 287-1992; Email: Christine.Askew@ee.doe.gov.

SUPPLEMENTARY INFORMATION: This information collection request contains: (1) OMB No. 1910-5127 ; (2) Information Collection Request Title: “Weatherization Assistance Program (WAP)”; (3) Type of Request: Extension of a Currently Approved Information Collection; (4) Purpose: To collect information on the status of grantee activities, expenditures, and results, to ensure that program funds are being used appropriately, effectively and expeditiously (5) Annual Estimated Number of Respondents: 59; (6) Annual Estimated Number of Total Responses: 696; (7) Annual Estimated Number of Burden Hours: 2,088; (8) Annual Estimated Reporting and Recordkeeping Cost Burden: $0; (5) Annual Estimated Number of Respondents: 59; (6) Annual Estimated Number of Total Responses: 696; (7) Annual Estimated Number of Burden Hours: 2,088; (8) Annual Estimated Reporting and Recordkeeping Cost Burden: $0.

Statutory Authority: Title V, Subtitle E of the Energy Independence and Security Act (EISA), Pub. L. 110-140 as amended (42 U.S.C. 17151 et seq.).

Issued in Washington, DC, on August 17, 2016.
AnnaMaria Garcia,
Program Manager, Office of Weatherization and Intergovernmental Program, Office of Energy Efficiency and Renewable Energy.

[FR Doc. 2016-20945 Filed 8-30-16; 8:45 am]

BILLING CODE 6450-01-P